DEPARTMENT OF EDUCATION

[CFDA Nos.: 84.133G and 84.133P]

Office of Special Education and Rehabilitative Services; National Institute on Disability and Rehabilitation Research; Notice Inviting Applications for New Awards Under Certain Programs for Fiscal Year (FY) 2002

Summary: We invite applications for new FY 2002 grant awards under the Field-Initiated Projects (84.133G) and Advanced Rehabilitation Research Training Projects (84.133P). We take this action to focus research attention on an area of national need.

National Education Goals

The eight National Education Goals focus the Nation's education reform efforts and provide a framework for improving teaching and learning.

This notice addresses the National Education Goal that every adult American will be literate and will possess the knowledge and skills necessary to compete in a global economy and exercise the rights and responsibilities of citizenship.

Applicable Regulations: The Education Department General Administrative Regulations (EDGAR), 34 CFR parts 74, 75, 77, 80, 81, 82, 85, 86 and 97; and 34 CFR part 350.

Application Notice for FY 2002
Funding priority | Deadline for transmittal of applications | Estimated number of awards | Maximum award amount (per year) * | Project period (months)
84.133G Field-Initiated Projects | October 10, 2001 | 30 | $150,000 | 36
84.133P Advanced Rehabilitation Research Training Projects | October 10, 2001 | 5 | $150,000 | 60
Note: The Secretary will reject without consideration or evaluation any application that proposes a project funding level that exceeds the stated maximum award amount in any year (See 34 CFR 75.104(b)).
Note: The estimated funding levels in this notice do not bind the Department of Education to make awards in any of these categories, or to any specific number of awards or funding levels, unless otherwise specified in statute.

Selection Criteria

Field-Initiated Projects

The selection criteria to be used to carry out research or development FI projects will be provided in its application package.

Advanced Rehabilitation Research Training Projects

The selection criteria to be used for the ARRT Projects will be provided in its application package.

Field-Initiated Projects

Purpose: Field-Initiated (FI) projects must further one or both of the following purposes: (a) Develop methods, procedures, and rehabilitation technology that maximize the full inclusion and integration into society, employment, independent living, family support, and economic and social self-sufficiency of individuals with disabilities, especially individuals with the most severe disabilities; or (b) improve the effectiveness of services authorized under the Act. FI projects carry out either research activities or development activities.

In carrying out a research activity, a grantee must identify one or more hypotheses and, based on the hypotheses identified, perform an intensive, systematic study directed toward new or full scientific knowledge or understanding of the subject or problem studied.

In carrying out a development activity, a grantee must use knowledge and understanding gained from research to create materials, devices, systems, or methods beneficial to the target population, including design and development of prototypes and processes. Target population means the group of individuals, organizations, or other entities expected to be affected by the project. More than one group may be involved since a project may affect those who receive services, provide services, or administer services.

There are two different sets of selection criteria for FI projects: One set to evaluate applications proposing to carry out research activities, and a second set to evaluate applications proposing to carry out development activities. The set of FI selection criteria that will be used to evaluate an application will be based on the applicant's designation of the type of activity that the application proposes to carry out.

The applicant should: (a) Clearly identify on the cover page of the application whether the proposal is for a research or a development project; (b) identify if the application is a resubmittal from the FY 2000 or FY 2001 competition and include the assigned FY 2000 or FY 2001 application number (i.e., H133G00, H133G01) in the abstract, the introduction, and in a cover letter; and (c) if applicable, identify their qualifying minority entity status in the abstract and transmittal letter.

Invitational Priorities

The Secretary is particularly interested in applications that address one of the following invitational priorities. However, under 34 CFR 75.105(c)(1) an application that meets an invitational priority does not receive competitive or absolute preference over other applications. The invitational priorities are: (a) Projects that improve the functioning of individuals with hearing related conditions such as unilateral hearing loss, hyperacusis, tinnitus, or difficulties in using hearing aids or cochlear implants; (b) projects that study use of the new “International Classification of Functioning, Disability and Health” (ICIDH-2) systems in promoting the independence and quality of life of persons with disabilities; (c) projects that collaborate with international assistive technology and rehabilitation engineering projects including, but not limited to, those that could be carried out under Science and Technology Agreements between the U.S. and other countries; (d) projects that enhance functioning of people with newly recognized disabilities or conditions such as multiple chemical sensitivity (MCS), chronic fatigue immune deficiency syndrome (CFIDS), and fibromyalgia; and (e) projects that use information technology to address the rehabilitation and employment needs of individuals who are both deaf and blind.

Eligible Applicants: Parties eligible to apply for grants under this program are States; public or private agencies, including for-profit agencies; public or private organizations, including for-profit organizations; institutions of higher education; and Indian tribes and tribal organizations.

Program Authority: 29 U.S.C. 764.

Advanced Rehabilitation Research Training Projects

Purpose: Advanced Rehabilitation Research Training (ARRT) projects must provide research training and experience at an advanced level to individuals with doctorates or similar advanced degrees who have clinical or other relevant experience. ARRT projects train rehabilitation researchers, including individuals with disabilities, with particular attention to research areas that support the implementation and objectives of the Rehabilitation Act and that improve the effectiveness of services authorized under the Act.

ARRT projects must carry out all of the following activities: Recruit and select candidates for advanced research training; provide a training program that includes didactic and classroom instruction, is multidisciplinary, and emphasizes scientific methodology, and may involve collaboration among institutions; provide research experience, laboratory experience or its equivalent in a community-based research setting, and a practicum that involves each individual in clinical research and in practical activities with organizations representing individuals with disabilities; provide academic mentorship or guidance, and opportunities for scientific collaboration with qualified researchers at the host university and other appropriate institutions; and provide opportunities for participation in the development of professional presentations and publications, and for attendance at professional conferences and meetings as appropriate for the individual's field of study and level of experience.

Eligible Applicants: Institutions of higher education are eligible to receive awards under this program.

Program Authority: 29 U.S.C. 762(k).

For Applications Contact: The Grants and Contracts Service Team (GCST), Department of Education, 400 Maryland Avenue SW., Switzer Building, 3317, Washington, DC 20202, or call (202) 205-8207. Individuals who use a telecommunications device for the deaf (TDD) may call the TDD number at (202) 205-9860. The preferred method for requesting information is to FAX your request to (202) 205-8717.

Individuals with disabilities may obtain a copy of the application package in an alternative format by contacting GCST. Telephone: (202) 205-8351. If you use a TDD, you may call the Federal Information Relay Services (FIRS) at 1-800-877-8339. However, the Department is not able to reproduce in an alternative format the standard forms included in the application package.

FOR FURTHER INFORMATION CONTACT: Donna Nangle, U.S. Department of Education, 400 Maryland Avenue, SW., room 3414, Switzer Building, Washington, DC 20202-2645. Telephone: (202) 205-5880. Individuals who use a telecommunications device for the deaf (TDD) may call the TDD number at (202) 205-4475. Internet: Donna.Nangle@ed.gov.

Individuals with disabilities may obtain this document in an alternative format (e.g., Braille, large print, or computer diskette) on request to the contact person listed in the preceding paragraph.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

Dated: July 19, 2001.
Francis V. Corrigan,
Deputy Director, National Institute on Disability and Rehabilitation Research.

[FR Doc. 01-18968 Filed 7-30-01; 8:45 am]

BILLING CODE 4000-01-P